DEPARTMENT OF LABOR

Employment and Training Administration

[TA-W-57,086]

Makita Corporation of America Buford, GA; Notice of Termination of Investigation

Pursuant to Section 221 of the Trade Act of 1974, as amended, an investigation was initiated on May 2, 2005 in response to a worker petition filed by company official on behalf of workers at Makita Corporation of America, Buford, Georgia.

The petitioning group of workers is covered by an active certification, (TA-W-57,071) which expires on May 17, 2007. Consequently, further investigation in this case would serve no purpose, and the investigation has been terminated.

Signed at Washington, DC this 9th day of June, 2005.
Elliott S. Kushner,
Certifying Officer, Division of Trade Adjustment Assistance.

[FR Doc. E5-3358 Filed 6-27-05; 8:45 am]

BILLING CODE 4510-30-P